ENVIRONMENTAL PROTECTION AGENCY

40 CFR Part 130

[EPA-R07-OW-2008-0613; FRL-8713-5]

Public Notice on the Internet of Region 7 Disapprovals of Clean Water Act Impaired Waters Lists

AGENCY: Environmental Protection Agency (EPA).

ACTION: Notice of change in procedures.

SUMMARY: EPA Region 7 is announcing a change to its procedures for issuing a public notice seeking comment on the Region's disapproval of a submittal by a state of an impaired waters list under Clean Water Act Section 303(d). We intend to provide this public notice on the Internet at http://www.epa.gov/region7 rather than by publication in newspapers of general circulation throughout the state.

DATES: This change in procedures will be effective on September 12, 2008.

FOR FURTHER INFORMATION CONTACT: Jeannette Schafer at (913) 551-7297 or by e-mail at schafer.jeannette@epa.gov.

SUPPLEMENTARY INFORMATION: This notice announces a change to the manner in which EPA Region 7 issues a public notice seeking comment under 40 CFR 130.7(d)(2) on the Region's disapproval of a submittal by a state of a Clean Water Act (“CWA”) Section 303(d) List.

Under Section 303(d)(1)(A) of the CWA, each state is required to identify and prioritize those waters within its boundaries for which technology-based effluent limitations and other required controls are not stringent enough to achieve the applicable water quality standards. See CWA 303(d)(1); 40 CFR 130.7(b)(1). After a state develops its CWA Section 303(d) List, the state must then submit the list to EPA for review and approval. See 40 CFR 130.7(d)(1). Within 30 days of a state's submission, EPA must approve or disapprove the state's list. If EPA disapproves the state's CWA Section 303(d) List, it must identify the impaired waters that should be listed within 30 days from the date of disapproval. EPA regulations provide that the Regional Administrator must promptly issue a public notice seeking comment on EPA's listing decision. After considering public comment and making appropriate revisions, the Region transmits the list to the state. See 40 CFR 130.7(d)(2).

The CWA and applicable regulations do not specify the type of public notice to be issued for EPA listing actions. In the past, EPA Region 7 has issued public notices through publication in newspapers of general circulation.

In light of the continuing improvements in public access to the Internet and EPA' s ability to disseminate materials on the Internet, EPA Region 7 intends to notify the public of listing actions under 40 CFR 130.7(d)(2) by placing notices on the Internet rather than using publication in newspapers of general circulation. The Internet provides a more effective and efficient means to provide notice. Using the Internet makes the notice available to the public during the entirety of the comment period, rather than only on the day the notice is published in the local newspaper. The Region believes the Internet notice is likely to reach a larger audience, since the Internet is generally available through schools, work, and libraries. Internet notice also enables the Region to reach beyond the finite distribution areas of local newspapers to make interested persons aware of the Region's listing decision. We plan to place the notices on the EPA Region 7 Web site at http://www.epa.gov/region7. The Region also plans to issue news releases notifying media outlets about our listing decisions, as well as notifications to elected officials and interested parties. The letter transmitting the final list to the state will be accessible from http://www.epa.gov/region7.

To the extent that this announcement may be considered a rule, EPA considers it to be a procedural rule which is exempt from notice and comment rulemaking requirements under 5 U.S.C. 553(b)(3)(A).

Authority: 33 U.S.C. 1313(d); 40 CFR 130.7.

Dated: August 28, 2008.
William A. Spratlin,
Director, Water, Wetlands and Pesticides Division, Region 7.

[FR Doc. E8-21233 Filed 9-11-08; 8:45 am]

BILLING CODE 6560-50-P